DEPARTMENT OF JUSTICE

Notice of Proposed Modification of Consent Decree Under the Clean Water Act

On June 29, 2023, the Department of Justice lodged a proposed First Modification of Consent Decree (“Modification”) in the United States District Court for the District of Puerto Rico in the lawsuit entitled United States v. Puerto Rico Aqueduct and Sewer Authority, No. 3:15-CV-02283. In this action, filed on September 15, 2015, the United States alleged that the Puerto Rico Aqueduct and Sewer Authority (“PRASA”) had violated the Clean Water Act (“CWA”), 33 U.S.C. 1251, et seq., with regard to 52 PRASA wastewater treatment plants (“WWTPs”) and their associated wastewater collection systems, 768 wastewater pump stations, 119 water treatment plants (“WTPs”), and PRASA's Puerto Nuevo Regional WWTP Sewer System (“Puerto Nuevo Sewer System”), the sewer system that services San Juan. On May 23, 2016, the United States District Court for the District of Puerto Rico entered a Consent Decree (“Decree”) that required extensive injunctive relief. The Modification makes certain changes to the requirements of the Decree, including granting extensions of time for PRASA to complete certain projects. The most significant revisions of the Decree are as follows:

The Decree required PRASA to implement six projects to address washwater discharges from drinking water treatment plants by various deadlines from December 2017 to December 2020. PRASA has not completed one of these projects. The deadline for this project has been extended to May 31, 2027.

The Decree required PRASA to implement 17 projects to address various problems in its sanitary wastewater system by various dates from December 2015 to December 2020. PRASA has completed ten of these projects. The Modification provides an extension of time for seven of the projects with new deadlines ranging from December 31, 2023, to December 31, 2028.

The Decree required that PRASA implement a Sewer System Reconnaissance involving the inspection and cleaning of the sewers located in the Puerto Nuevo Sewer System. The Modification extends certain of the deadlines for these projects and establishes deadlines for other aspects of these projects.

The Decree required that PRASA begin reporting the amount of wet weather and dry weather discharges from combined sewer (sewers conveying both wastewater and stormwater) outfalls by September 15, 2018, including estimated flow, and that, if PRASA determined that it could not estimate flow by that date, explain why such reporting was not feasible and provide a date by which such reporting would be feasible. The Modification provides that, by May 31, 2025, PRASA have a calibrated and validated model for the Puerto Nuevo Sewer System that will enable PRASA to estimate, based on combined sewer outfall level monitoring and sewer system modeling, the volume of each Combined Sewer Overflow (“CSO”) discharge and that PRASA begin to report the location, time, and estimated volume of each CSO discharge.

The Decree required PRASA to include in its Spill Response and Clean-up Plan criteria and strategies for public notification of SSOs/CSOs. The Modification requires PRASA to post to its website a table providing information concerning SSOs and CSOs. The Modification also requires PRASA to provide information on its website concerning where CSOs occur, the dangers posed by CSOs, methods for reporting CSOs, and its efforts to control CSOs.

In addition to the changes to the Decree discussed above, the Modification also requires PRASA to implement 17 new wastewater projects, at a total estimated cost of about $530 million. The deadlines for completion of these projects range from December 31, 2024, to December 31, 2030.

The publication of this notice opens a period for public comment on the Modification. Comments should be addressed to the Assistant Attorney General, Environment and Natural Resources Division, and should refer to United States v. Puerto Rico Aqueduct and Sewer Authority, No. 3:15-CV-02283 (D.P.R.), D.J. Ref. No. 90-5-1-1-08385/4. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Modification may be examined and downloaded at this Justice Department website: https://www.justice.gov/enrd/consent-decrees. The Department of Justice will provide a paper copy of the Modification upon written request. Please email your request to pubcomment-ees.enrd@usdoj.gov or mail your request to: Consent Decree Library, U.S. DOJ—ENRD, P.O. Box 7611, Washington, DC 20044-7611.

Henry Friedman,
Assistant Section Chief, Environmental Enforcement Section, Environment and Natural Resources Division.

[FR Doc. 2023-14263 Filed 7-5-23; 8:45 am]

BILLING CODE 4410-15-P